NUCLEAR REGULATORY COMMISSION

[Docket No. 70-1151; NRC-2015-0039]

Westinghouse Electric Company, LLC; Columbia Fuel Fabrication Facility

AGENCY: Nuclear Regulatory Commission.

ACTION: Environmental impact statement; issuance.

SUMMARY: The U.S. Nuclear Regulatory Commission (NRC) is issuing a final Environmental Impact Statement (EIS), NUREG- 2248, “Environmental Impact Statement for the License Renewal of the Columbia Fuel Fabrication Facility In Richland County, South Carolina” for Westinghouse Electric Company, LLC's (WEC) license renewal application to renew its special nuclear material (SNM) license SNM-1107 to continue to operate its Columbia Fuel Fabrication Facility (CFFF) for an additional 40 years. The CFFF is located in Hopkins, South Carolina, and manufactures nuclear fuel assemblies for commercial nuclear power plants. If the WEC's license renewal request is granted, as proposed, the license would be effective for 40 years from the date the NRC approves the renewal.

DATES: The final EIS referenced in this document is available on August 5, 2022.

ADDRESSES: Please refer to Docket ID NRC-2015-0039 when contacting the NRC about the availability of information regarding this document. You may obtain publicly available information related to this document using any of the following methods:

• Federal Rulemaking Website: Go to https://www.regulations.gov and search for Docket ID NRC-2015-0039. Address questions about Docket IDs to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The final EIS is available in ADAMS under Accession No. ML22201A131.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Project Website: Information related to the WEC project can be accessed on the NRC's WEC website at https://www.nrc.gov/info-finder/fc/westinghouse-fuel-fab-fac-sc-lc.html. Under the section titled “Operating,” scroll down to “Key Documents” and click on final EIS, NUREG-2248.

• Public Libraries: A copy of the final EIS will be made available at the following public libraries:

Richland Public Library—Main; 1431 Assembly Street, Columbia, SC 29201

Richland Public Library—Lower Richland; 9019 Garners Ferry Road, Hopkins, SC 29061

Richland Public Library—Eastover; 608 Main Street, Eastover, SC 29044

FOR FURTHER INFORMATION CONTACT: Stacey Imboden, Office of Nuclear Material Safety and Safeguards, U.S. Nuclear Regulatory Commission, Washington, DC 20555-0001, telephone: 301-415-2462; email: Stacey.Imboden@nrc.gov.

SUPPLEMENTARY INFORMATION:

I. Background

In accordance with section 51.118 of title 10 of the Code of Federal Regulations (10 CFR), “Final environmental impact statement—notice of availability,” the NRC is making available NUREG-2248, which concerns the NRC's final EIS for the proposed renewal of WEC's license SNM-1107 for an additional 40 years. A Notice of Availability of the draft EIS (NUREG-2248) was published in the Federal Register (FR) on August 6, 2021, by the NRC (86 FR 43276) and the U.S. Environmental Protection Agency (86 FR 43236). The public comment period on the draft EIS closed on September 20, 2021. On September 28, 2021, the NRC re-opened the public comment period until November 19, 2021 to allow more time for the public to submit comments (86 FR 53694). The comments received are addressed in the final EIS. The final EIS is available as indicated in the ADDRESSES section of this document.

II. Discussion

The NRC is issuing the final EIS for an application from WEC requesting to renew its SNM license SNM-1107 to continue operating the CFFF for an additional 40 years. The CFFF is located in Hopkins, South Carolina, and has been operating since 1969. The WEC's license (SNM-1107) was last renewed by the NRC in 2007 for 20 years and will expire in September 2027. The proposed action is the renewal of the SNM-1107 license to allow the WEC to continue licensed operations and activities at the CFFF site for an additional 40 years from the date the NRC approves the license renewal request.

The final EIS is being issued as part of the NRC's process to decide whether to renew the SNM-1107 license pursuant to 10 CFR part 70. In this final EIS, the NRC staff has assessed the potential environmental impacts of the license renewal for an additional 40 years. The NRC staff assessed the impacts of the proposed action, the no-action alternative, and a 20-year license renewal alternative on land use; transportation; geology and soils; water resources; ecological resources; air quality; noise; historical and cultural resources; visual and scenic resources; socioeconomics; environmental justice, public and occupational health, and waste management. Additionally, the final EIS analyzes and compares the benefits and costs of the proposed action and the alternatives. In preparing this final EIS, the NRC staff also considered, evaluated, and addressed the public comments received on the draft EIS. Appendix D of the final EIS summarizes the public comments received and the NRC's responses.

After comparing the impacts of the proposed action to those of the No-Action alternative and the 20-year license renewal alternative, the NRC staff, in accordance with the requirements in 10 CFR part 51, recommends the proposed action. This recommendation is based on (i) review of the license renewal application request, which includes the environmental report, supplemental documents, and the licensee's responses to the NRC staff's requests for additional information; (ii) consultation with Federal, State, and Tribal agencies and input from other stakeholders; (iii) the NRC staff's independent review; and (iv) the NRC staff's assessments in the final EIS.

Dated: July 29, 2022.
For the Nuclear Regulatory Commission.
Christopher M. Regan,
Director, Division of Rulemaking, Environmental and Financial Support, Office of Nuclear Material Safety, and Safeguards.

[FR Doc. 2022-16627 Filed 8-4-22; 8:45 am]

BILLING CODE 7590-01-P